DEPARTMENT OF HEALTH AND HUMAN SERVICES

Food and Drug Administration

Oncologic Drugs Advisory Committee; Amendment of Notice

AGENCY: Food and Drug Administration, HHS.

ACTION: Notice.

The Food and Drug Administration (FDA) is announcing an amendment to the notice of meeting of the Oncologic Drugs Advisory Committee. This meeting was announced in the Federal Register of January 6, 2006 (71 FR 943). The amendment is being made to reflect a change in the Date and Time portion of the document. The date of this meeting is being changed. There are no other changes.

FOR FURTHER INFORMATION CONTACT: Johanna Clifford, Center for Drug Evaluation and Research (HFD-21), Food and Drug Administration, 5600 Fishers Lane, Rockville, MD 20857, 301 827-7001, FAX: 301-827-6776, e-mail: cliffordj@cder.fda.gov, or the FDA Advisory Committee Information Line, 1-800-741-8138 (301-443-0572 in the Washington DC area), code 3014512542. Please call the information line for up-to-date information on this meeting.

SUPPLEMENTARY INFORMATION: In the Federal Register of January 6, 2006, FDA announced that a meeting of the Oncologic Drugs Advisory Committee would be held on March 15, 2006, from 8 a.m. to 5 p.m. On page 943, in the 2d column, the Date and Time portion of the document is amended to read as follows:

Date and Time: The meeting will be held on March 13, 2006, from 8 a.m. to 5 p.m.

This notice is issued under the Federal Advisory Committee Act (5 U.S.C. app. 2) and 21 CFR part 14, relating to advisory committees.

Dated: January 17, 2006.
Jason Brodsky,
Acting Associate Commissioner for External Relations.

[FR Doc. E6-1003 Filed 1-26-06; 8:45 am]

BILLING CODE 4160-01-S